INTERNATIONAL TRADE COMMISSION

[Investigation No. 337-TA-461]

In the Matter of Certain Clay Target Throwing Machines and Components Thereof; Notice of Commission Determination Not To Review an Initial Determination Granting a Joint Motion To Terminate the Investigation as to All Respondents on the Basis of a Settlement Agreement; Termination of Investigation

AGENCY: International Trade Commission.

ACTION: Notice.

SUMMARY: Notice is hereby given that the U.S. International Trade Commission has determined not to review an initial determination (“ID”) of the presiding administrative law judge (“ALJ”) granting the joint motion of complainant Stuart Patenaude (“complainant”) and respondents Gösta Gustafssons Mekaniska Vekstad AB, of Arboga, Sweden; GMV Superstar AB, of Arboga, Sweden; and Gert Holmqvist Enterprises, Ltd., of Okotoks, Alberta, Canada (“respondents”) to terminate the investigation as to respondents on the basis of a settlement agreement. Termination of these respondents terminates the investigation.

FOR FURTHER INFORMATION CONTACT: Michael Diehl, Esq. or Andrea Casson, Esq., Office of the General Counsel, U.S. International Trade Commission, telephone (202) 205-3095 or (202) 205-3105. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record of this investigation may be viewed on the Commission's electronic docket (EDIS-ON-LINE) at http://dockets.usitc.gov/eol/public.

SUPPLEMENTARY INFORMATION: This investigation was instituted on August 7, 2001, to determine whether there is a violation of section 337 of the Tariff Act of 1930, as amended, in the importation into the United States, sale for importation, or the sale within the United States after importation of certain clay target throwing machines and components thereof by reason by infringement of claims 1 or 6 of U.S. Letters Patent 5,249,563, or claims 1, 9, 10, 15, or 16 of U.S. Letters Patent 6,176,229 and whether an industry in the United States exists as required by subsection (a)(2) of section 337. 66 FR 42168 (2001). On March 13, 2002, complainant and respondents filed a Joint Motion for Termination of Investigation As to [Respondents] Based Upon a Settlement Agreement and License. On March 22, 2002, the Commission investigative attorney filed a response in support of the joint motion. On June 6, 2002, the presiding ALJ issued an ID (Order No. 5) granting the joint motion based on the settlement agreement and a non-exclusive patent license. There being no other respondents in the investigation, the ALJ ordered the investigation terminated in its entirety. No party petitioned for review of the ID.

This action is taken under the authority of section 337 of the Tariff Act of 1930, as amended, 19 U.S.C. 1337, and Commission rule 210.42(h), 19 CFR 210.42(h).

Issued: June 21, 2002.
By order of the Commission.
Marilyn R. Abbott,
Secretary to the Commission.

[FR Doc. 02-16239 Filed 6-26-02; 8:45 am]

BILLING CODE 7020-02-P